NUCLEAR REGULATORY COMMISSION

[Docket No. 04000341]

Notice of Availability of Environmental Assessment and Finding of No Significant Impact for License Amendment to Source Materials License No. Stc-133 Authorizing the Use of Site-Specific Derived Concentration Guideline Levels for Unrestricted Release of the Defense Logistics Agency, Defense Nuclear Supply Center Depot in Binghamton, NY

AGENCY: Nuclear Regulatory Commission.

ACTION: Issuance of Environmental Assessment and Finding of No Significant Impact for License Amendment.

FOR FURTHER INFORMATION CONTACT: Dennis Lawyer, Health Physicist, Commercial and R&D Branch, Division of Nuclear Materials Safety, Region 1, 475 Allendale Road, King of Prussia, Pennsylvania; telephone 610-337-5366; fax number 610-337-5393; or by e-mail: drl1@nrc.gov.

SUPPLEMENTARY INFORMATION:

I. Introduction

The U.S. Nuclear Regulatory Commission (NRC) is considering the issuance of a license amendment to Source Materials License No. STC-133. This license is held by Defense Logistics Agency (DLA or the Licensee) at multiple sites. The site at issue is its Defense National Stockpile Center located at Hoyt Avenue in Binghamton, New York (the Facility). Issuance of the amendment would authorize release of the Facility for unrestricted use using site specific Derived Concentration Guideline Levels (DCGLs). The use of the site specific DCGLs requires an exemption to the definition of weighting factors in 10 CFR 20.1003. The Licensee requested this action in a letter dated October 19, 2005. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's October 19, 2005, license amendment request for site-specific DCGL unrestricted use release criteria at DNSC Binghamton through issuance of an exemption to the definition of weighting factors in 10 CFR 20.1003. License No. STC-133 was issued on July 23, 1983, pursuant to 10 CFR Part 40, and has been amended periodically since that time. This license authorized the Licensee to use unsealed source material for purposes of storage, sampling, repackaging, and transfer.

Based on the Licensee's historical knowledge of the site and the conditions of the Facility, the Licensee determined that only routine decontamination activities, in accordance with its NRC-approved, operating radiation safety procedures, were required. The Licensee was not required to submit a decommissioning plan to the NRC because worker cleanup activities and procedures are consistent with those approved for routine operations. The Licensee will conduct surveys of the Facility and provide information to the NRC to demonstrate that the Facility meets the criteria in Subpart E of 10 CFR Part 20 for unrestricted release by using the approved DCGL.

Need for the Proposed Action

The Licensee has ceased conducting licensed activities at the Facility, and seeks the approval of site-specific DCGLs through issuance of an exemption to the definition of weighting factors in 10 CFR 20.1003. The licensee needs these site specific DCGL values to release the Facility for unrestricted use. NRC is fulfilling its responsibilities under the Atomic Energy Act to make a timely decision on a proposed license amendment that ensures protection of public health and safety and the environment.

Environmental Impacts of the Proposed Action

The historical review of licensed activities conducted at the Facility shows that such activities involved use of the following radionuclides with half-lives greater than 120 days: Natural uranium and thorium mixtures.

The Licensee is electing to demonstrate compliance with the radiological criteria for unrestricted release as specified in 10 CFR 20.1402 by developing DCGLs for its Facility. The Licensee conducted site-specific dose modeling using input parameters specific to the Facility and a conservative assumption that all residual radioactivity is in equilibrium. Federal Guidance Report Number 13 was used to modify the dose conversion factors because it is based on an improved, more realistic dosimetry model. The selected critical age group is adults as the expected future use of this facility will be industrial. Based on the type of building railroad distribution and truck access, there is no compelling evidence to indicate that the building will be used for other than industrial activities. The NRC has reviewed the Licensee's methodology and proposed DCGLs and concluded that the proposed DCGLs are acceptable for use as release criteria at the Facility. Federal Guidance Report Number 13, as an updated dosimetry model, uses different weighting factors than is published in 10 CFR Part 20. The weighting factors are used to determine effective dose equivalent and total dose equivalent. Therefore, an exemption to the definition of weighting factors in 10 CFR 20.1003 is required to use Federal Guidance Report Number 13. The use of Federal Guidance Report Number 13 for dose modeling and weighting factors is acceptable for this Facility.

Based on its review, the staff has determined that the affected environment and any environmental impacts associated and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the State of New York's Department of Environmental Conservation for review on June 21, 2006. On July 27, 2006, the State of New York responded by electronic mail. The State agreed with the conclusions of the EA and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. NUREG-1757, “Consolidated NMSS Decommissioning Guidance;”

2. Title 10 Code of Federal Regulations, Part 20, Subpart E, “Radiological Criteria for License Termination;”

3. Title 10, Code of Federal Regulations, Part 51, “Environmental Protection Regulations for Domestic Licensing and Related Regulatory Functions;”

4. Letter dated October 19, 2005, “Amendment to Source Materials License” [Adams Accession No. ML053060017]

5. Letter dated December 29, 2005, “Amendment to Source Material License STC-133—Request to use Commodity Specific DCGLs at Binghamton and Somerville Depots” [ML060040304]

6. Letter dated February 7, 2006, “Amendment to Source Material License STC-133—Request to Use Commodity Specific DCGLs at Binghamton and Somerville Depots” [ML060410319]

7. Letter dated April 26, 2006, “Defense Logistics Agency, Request for Additional Information Concerning Application for Amendment to License” [ML061220479]

8. “Radiological Historical Site Assessment Report, Defense National Stockpile Center, Somerville Depot, Hillsborough, NJ” dated January 2006 [ML060730422]

9. “Radiological Historical Site Assessment Report, Defense National Stockpile Center, Binghamton Depot, Binghamton, NY” dated February 2006 [ML060730408]

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Region 1, 475 Allendale Road, King of Prussia this 15th day of August 2006.
For the Nuclear Regulatory Commission.
James P. Dwyer,
Chief, Commercial and R&D Branch, Division of Nuclear Materials Safety, Region 1.

[FR Doc. E6-13834 Filed 8-21-06; 8:45 am]

BILLING CODE 7590-01-P